Title 3—

The President

Proclamation 8146 of May 18, 2007

National Hurricane Preparedness Week, 2007

By the President of the United States of America

A Proclamation

Each year, millions of Americans living in coastal areas are faced with the hazards of hurricanes. As hurricane season approaches, National Hurricane Preparedness Week provides an opportunity to raise awareness of steps that can be taken to help protect our citizens, and their communities and property.

Hurricanes can be devastatingly powerful and include storm surge, high winds, tornadoes, and flooding. To reduce the potentially deadly effects of these storms, it is imperative for people in hurricane-prone areas to prepare for each type of hurricane hazard. Taking the time to develop a family disaster plan, create a disaster supply kit, and stay aware of current weather situations can improve preparedness and help save lives.

My Administration is committed to strengthening our Nation's ability to prepare for, respond to, and recover from these types of disasters. I've asked the Federal Emergency Management Agency (FEMA) to find ways to provide better assistance to those affected by catastrophe. FEMA has enhanced coordination between all levels of government during times of crisis and, along with the National Oceanic and Atmospheric Administration, is helping raise awareness about the dangers of hurricanes. In addition, the Department of Homeland Security and FEMA provide Americans with important emergency preparation checklists and valuable resources about what to do after a disaster at ready.gov and fema.gov. By working together, citizens and Federal, State, local, and tribal officials can help safeguard lives and protect property.

Throughout the hurricane season, we are also grateful for the compassion, courage, and generosity of the volunteers and first responders who stand ready to help their neighbors in need. Their good hearts reflect the character of our Nation.

NOW, THEREFORE, I, GEORGE W. BUSH, President of the United States of America, by virtue of the authority vested in me by the Constitution and laws of the United States, do hereby proclaim May 20 through May 26, 2007, as National Hurricane Preparedness Week. I call upon government agencies, private organizations, schools, and the media to share information about hurricane preparedness. I also urge all Americans living in vulnerable coastal areas of our Nation to take appropriate measures and precautions to protect themselves against the effects of hurricanes.

IN WITNESS WHEREOF, I have hereunto set my hand this eighteenth day of May, in the year of our Lord two thousand seven, and of the Independence of the United States of America the two hundred and thirty-first.

[FR Doc. 07-2582

Filed 5-22-07; 8:45 am]

Billing code 3195-01-P